NATIONAL FOUNDATION ON THE ARTS AND THE HUMANITIES

Institute of Museum and Library Services; Sunshine Act Meeting of the National Museum and Library Services Board

AGENCY: Institute of Museum and Library Services (IMLS), NFAH.

ACTION: Notice of Meeting.

SUMMARY: This notice sets forth the agenda of the forthcoming meeting of the National Museum and Library Services Board. This notice also describes the function of the Board. Notice of the meeting is required under the Sunshine in Government Act.

TIME AND PLACE: Monday, October 31, 2005, from 2 p.m. to 4:30 p.m.

AGENDA: Committee Meetings of the Sixth National Museum and Library Service Board Meeting:

2 p.m.-3:13 p.m.—Executive Session. (Closed to the Public.)

3:30 p.m.-4:30 p.m.—Committee Partnerships and Government Affairs. (Open to the Public.)

I. Staff Reports.

II. Other Business.

3:30 p.m.-4:30 p.m.—Policy and Planning Committee. (Open to the Public.)

I. Staff Reports.

II. Other Business.

PLACE: The meeting will be held at the Institute of Museum and Library Services. 1800 M Street, NW., 9th Floor, Washington, DC 20036. Telephone: (202) 653-4676.

TIME AND DATE: Tuesday, November 1, 2005, from 9 a.m. to 12:30 p.m.

AGENDA: Sixth National Museum and Library Services Board Meeting (Open to the Public):

I. Welcome.

II. Approval of Minutes.

III. Program Reports.

IV. Committee Reports.

V. Board program: Engaging America's Youth.

VI. Other Business.

VII. Adjournment.

PLACE: The meeting will be held at the Institute of Museum and Library Services, 1800 M Street, NW. 9th Floor, Washington, DC 20036. Telephone: (202) 653-4676.

STATUS: Parts of this meeting will be closed to the public as identified in the meeting agenda and supplementary information. The rest of the meeting will be open to the public.

FOR FURTHER INFORMATION CONTACT: Elizabeth Lyons, Special Assistant to the Director, Institute of Museum and Library Services, 1800 M Street, NW., 9th Floor, Washington, DC 20036. Telephone: (202) 653-4676.

SUPPLEMENTARY INFORMATION: The National Museum and Library Services Board is established under the Museum and Library Services Act, 20 U.S.C. Section 9101 et seq. The Board advises the Director of the Institute on general policies with respect to the duties, powers, and authorities related to Museum and Library Services. The Executive Session of the Meeting from 2 p.m. to 3:15 p.m. on Monday, October 31, 2005 will be closed pursuant to subsections (c)(4) and (c)(6) of section 552b of Title 5, United States Code because the Board will consider information that may disclose: Trade secrets and commercial or financial information obtained from a person and privileged or confidential; and information of a personal nature the disclosure of which would constitute a clearly unwarranted invasion of personal privacy. The meetings from 3:30 p.m. until 4:30 p.m. on Monday, October 31, 2005 and the meeting from 9 a.m. to 12:30 p.m. on Tuesday, November 1, 2005 are open to the public. If you need special accommodations due to a disability, please contact: Institute of Museum and Library Services, 1100 Pennsylvania Avenue, NW., Washington, DC 20506. Telephone: (202) 653-4676; TDD (202) 653-4699 at least seven (7) days prior to the meeting date.

Dated: October 13, 2005.
Teresa LaHaie,
Administrative Officer, Institute of Museum and Library Services.

[FR Doc. 05-20876 Filed 10-14-05; 9:27 am]

BILLING CODE 7036-01-M